DEPARTMENT OF DEFENSE

Defense Acquisition Regulations System

48 CFR Parts 212 and 252

RIN 0750-AH46

Defense Federal Acquisition Regulation Supplement; Transition to the System for Award Management (DFARS Case 2011-D053)

AGENCY: Defense Acquisition Regulations System, Department of Defense (DoD).

ACTION: Final rule.

SUMMARY: DoD is issuing a final rule amending the Defense Federal Acquisition Regulation Supplement for the transition of the Integrated Acquisition Environment systems to the new System for Award Management architecture.

DATES: Effective date: November 18, 2011.

FOR FURTHER INFORMATION CONTACT: Mr. Julian E. Thrash, (703) 602-0310.

SUPPLEMENTARY INFORMATION:

I. Background

The Integrated Acquisition Environment (IAE) is an electronic Government initiative that aggregates Federal acquisition content by providing one Web site for regulations, systems, resources, opportunities, and training. The Web site at https://www.acquisition.gov was designed to create an easily navigable resource that is both more efficient and transparent.

The transition of the IAE to the new System for Award Management (SAM) architecture has begun. Phase One will transition the Central Contractor Registration (CCR), the Excluded Parties List System (EPLS), and Online Representations and Certifications Application (ORCA) to the new SAM architecture. This rule provides the first step in updating the DFARS for these changes by updating Web address in the DFARS for two references to ORCA to show that the application is now available through https://www.acquisition.gov. Future DFARS cases are anticipated to actually change the names of the systems to SAM once the transition is complete, as well as to begin the transition of the remaining IAE systems.

A related FAR case, 2011-021, Transition to the System for Award Management, is revising the Federal Acquisition Regulation references for the CCR, EPLS, and ORCA databases as being accessible through https://www.acquisition.gov.

DoD has issued this rule as a final rule because this rule is administrative as it only updates existing Web page addresses does not have a significant cost or administrative impact on contractors or offerors. Therefore, public comment is not required in accordance with 41 U.S.C. 1707.

II. DFARS Changes

This rule makes the following DFARS changes to reflect that the relevant database references for ORCA shown in the DFARS references are accessible through the new Web site, https://www.acquisition.gov:

• 212.301 Solicitation provisions and contract clauses for the acquisition of commercial items; and

• 252.204-7007 Alternate A, Annual Representations and Certifications.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant DFARS revision within the meaning of FAR 1.501-1 and 41 U.S.C. 1707 and does not require publication for public comment.

V. Paperwork Reduction Act

The rule does not contain any information collection requirements that require the approval of the Office of Management and Budget under the Paperwork Reduction Act (44 U.S.C. chapter 35).

List of Subjects in 48 CFR Parts 212 and 252

Government procurement.

Mary Overstreet,
Editor, Defense Acquisition Regulations System.

Therefore, 48 CFR parts 212 and 252 are amended as follows:

1. The authority citation for 48 CFR parts 212 and 252 continue to read as follows:

Authority: 41 U.S.C. 1303 and 48 CFR chapter 1.

PART 212-ACQUISITION OF COMMERCIAL ITEMS

2. Amend section 212.301 paragraph (f) introductory text by removing the Internet address “https://orca.bpn.gov” and adding in its place “https://www.acquisition.gov/”.

PART 252—SOLICITATION PROVISIONS AND CONTRACT CLAUSES

3. Amend section 252.204-7007 by—

(a) Amending the clause date by removing “(SEP 2011)” and adding in its place “(NOV 2011)”; and

(b) Amending paragraph (e) by removing the Internet address “https://orca.bpn.gov/” and adding in its place “https://www.acquisition.gov/”.

[FR Doc. 2011-29900 Filed 11-17-11; 8:45 am]

BILLING CODE 5001-06-P